DEPARTMENT OF TRANSPORTATION

Federal Aviation Administration

14 CFR Part 39

[Docket No. 98-ANE-72-AD; Amendment 39-14620; AD 2006-11-16]

RIN 2120-AA64

Airworthiness Directives; Honeywell International Inc. T5311A, T5311B, T5313B, T5317A, T5317A-1, and T5317B Series Turboshaft Engines and Lycoming Former Military T53-L-11B, T53-L-11D, T53-L-13B, T53-L-13B/D, and T53-L-703 Series Turboshaft Engines

AGENCY: Federal Aviation Administration (FAA), DOT.

ACTION: Final rule.

SUMMARY: The FAA is superseding an existing airworthiness directive (AD) for AlliedSignal, Inc. T5317A-1 turboshaft engines. That AD currently requires repetitive engine fuel pump pressure tests of certain fuel control regulator assemblies to determine if both fuel pumps in the fuel control regulator assemblies are producing fuel pressure. That AD also requires replacing the fuel control regulator assembly, if necessary. This AD requires initial and repetitive visual and dimensional inspections of fuel control regulator assembly main and secondary drive shaft and pump gear splines, installed in certain fuel control regulator assemblies. This AD also expands the engine applicability, and includes certain engines installed on helicopters certified under § 21.25 or 21.27 of the Code of Federal Regulations (14 CFR 21.25 or 14 CFR 21.27). This AD results from several reports of loss of fuel flow from the engine fuel control regulator assembly due to failure of both main and secondary drive shaft and pump gear splines. We are issuing this AD to prevent in-flight engine failure and forced autorotation landing.

DATES: This AD becomes effective July 5, 2006. The Director of the Federal Register approved the incorporation by reference of certain publications listed in the regulations as of July 5, 2006.

ADDRESSES: You can get the service information identified in this AD from Goodrich Pumps & Engine Control Systems, P.O. Box 3306519, West Hartford, CT 06133, fax (860) 231-2718.

You may examine the AD docket at the FAA, New England Region, Office of the Regional Counsel, 12 New England Executive Park, Burlington, MA. You may examine the service information, at the FAA, New England Region, Office of the Regional Counsel, 12 New England Executive Park, Burlington, MA.

FOR FURTHER INFORMATION CONTACT: Robert Baitoo, Aerospace Engineer, Los Angeles Aircraft Certification Office, FAA, Transport Airplane Directorate, 3960 Paramount Blvd., Lakewood, CA 90712-4137; telephone: (562) 627-5245, fax: (562) 627-5210.

SUPPLEMENTARY INFORMATION: The FAA proposed to amend 14 CFR part 39 with a proposed AD. The proposed AD applies to Honeywell International Inc. T5311A, T5311B, T5313B, T5317A, T5317A-1, and T5317B series turboshaft engines and Lycoming former military T53-L-11B, T53-L-11D, T53-L-13B, T53-L-13B/D, and T53-L-703 series turboshaft engines. We published the proposed AD in the Federal Register on December 28, 2005 (70 FR 77073). That action proposed to require initial and repetitive visual and dimensional inspections of fuel control regulator assembly main and secondary drive shaft and pump gear splines, installed in certain fuel control regulator assemblies. That action also proposed to expand the engine applicability, and include certain engines installed on helicopters certified under § 21.25 or 21.27 of the Code of Federal Regulations (14 CFR 21.25 or 14 CFR 21.27).

Examining the AD Docket

You may examine the AD Docket (including any comments and service information), by appointment, between 8 a.m. and 4:30 p.m., Monday through Friday, except Federal holidays. See ADDRESSES for the location.

Comments

We provided the public the opportunity to participate in the development of this AD. We have considered the one comment received.

The commenter, Honeywell International Inc., states that they issued or revised three service bulletins in response to the unsafe condition in the proposed AD. We note that they have issued the service bulletins. We did not change the AD based on this comment.

Conclusion

We have carefully reviewed the available data, including the comment received, and determined that air safety and the public interest require adopting the AD as proposed.

Costs of Compliance

We estimate that this AD will affect 592 engines installed on helicopters of U.S. registry. We also estimate that it will take about 8 workhours per engine to perform an inspection, and that the average labor rate is $65 per work hour. Based on these figures, we estimate the cost of the AD to U.S. operators for one inspection to be $307,840. A replacement fuel control regulator pump assembly will cost about $18,000. We estimate that if all affected fuel control regulator pump assemblies failed inspection and had to be replaced, the total parts cost of the AD to U.S. operators will be $10,656,000.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 98-ANE-72-AD” in your request.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-10926 (63 FR 66741, December 3, 1998) and by adding a new airworthiness directive, Amendment 39-14620, to read as follows:

2006-11-16 Honeywell International Inc. (formerly AlliedSignal, Inc., formerly Textron Lycoming, formerly Avco Lycoming): Amendment 39-14620. Docket No. 98-ANE-72-AD.

Effective Date

(a) This AD becomes effective July 5, 2006.

Affected ADs

(b) This AD supersedes AD 98-22-11.

Applicability

(c) This AD applies to Honeywell International Inc., (formerly AlliedSignal, Inc., formerly Textron Lycoming, formerly Avco Lycoming) T5311A, T5311B, T5313B, T5317A, T5317A-1, and T5317B series turboshaft engines and Lycoming former military T53-L-11B, T53-L-11D, T53-L-13B, T53-L-13B/D, and T53-L-703 series turboshaft engines using Goodrich Pump & Engine Control Systems, Inc. (GPECS) (formerly Chandler Evans Control Systems) engine fuel control regulator assembly models TA-2S, TA-2G, TA-2F, TA-7, or TA-10.

(d) The T5311A, T5311B, T5313B, T5317A, T5317A-1, and T5317B turboshaft engines are installed on, but not limited to, Bell 204, 205, and Kaman K-1200 helicopters. Lycoming T53-L-11B, T53-L-11D, T53-L-13B, T53-L-13B/D, and T53-L-703 series turboshaft engines are installed on, but not limited to, Bell AH-1 and UH-1 helicopters certified under § 21.25 or 21.27 of the Code of Federal Regulations (14 CFR 21.25 or 14 CFR 21.27).

Unsafe Condition

(e) This AD results from several reports of loss of fuel flow from the engine fuel control regulator assembly due to failure of both main and secondary drive shaft and pump gear splines. We are issuing this AD to prevent in-flight engine failure and forced autorotation landing.

Compliance

(f) You are responsible for having the actions required by this AD performed within the compliance times specified unless the actions have already been done.

Initial Visual and Dimensional Inspection

(g) Within 150 flight hours after the effective date of this AD, do the following:

(1) Remove the fuel control regulator assembly from the engine and perform an initial visual and dimensional inspection of the fuel control regulator assembly main and secondary drive shaft and pump gear splines for wear.

(2) Use paragraphs 2.A. through 2.D.(7) and 2.E. through 2.F.(2) of the Accomplishment Instructions of Goodrich Pump & Engine Control Systems, Inc. (TA series) Service Bulletin (SB) No. 73-42, Revision 1, dated August 12, 2004 to do the inspection.

(3) Do not install any engine fuel control regulator assembly that fails inspection.

Repetitive Visual and Dimensional Inspections

(h) Thereafter, within every 1,250 flight hours since-last-inspection, perform repetitive visual and dimensional inspections of the fuel control regulator assembly main and secondary drive shaft and pump gear splines for wear, as specified in paragraphs (g)(1) through (g)(3) of this AD.

Alternative Methods of Compliance

(i) The Manager, Los Angeles Aircraft Certification Office, has the authority to approve alternative methods of compliance for this AD if requested using the procedures found in 14 CFR 39.19.

Related Information

(j) Honeywell International Inc. Service Bulletin No. T53-0138, Revision 1, dated May 5, 2005, also pertains to the subject of this AD.

Material Incorporated by Reference

(k) You must use Goodrich Pump & Engine Control Systems, Inc. (TA series) Service Bulletin (SB) No. 73-42, Revision 1, dated August 12, 2004, to perform the inspections required by this AD. The Director of the Federal Register approved the incorporation by reference of this service bulletin in accordance with 5 U.S.C. 552(a) and 1 CFR part 51. You can get a copy from Goodrich Pumps & Engine Control Systems, P.O. Box 3306519, West Hartford, CT 06133, fax (860) 231-2718. You can review a copy at the FAA, New England Region, Office of the Regional Counsel, 12 New England Executive Park, Burlington, MA; or at the National Archives and Records Administration (NARA). For information on the availability of this material at NARA, call 202-741-6030, or go to: http://www.archives.gov/federal-register/cfr/ibr-locations.html.

Issued in Burlington, Massachusetts, on May 23, 2006.
Thomas A. Boudreau,
Acting Manager, Engine and Propeller Directorate, Aircraft Certification Service.

[FR Doc. 06-4908 Filed 5-30-06; 8:45 am]

BILLING CODE 4910-13-P